DEPARTMENT OF THE INTERIOR

Geological Survey

[GX15ED00CPN]

Agency Information Collection Activities: Request for Comments

AGENCY: U.S. Geological Survey (USGS), Department of the Interior.

ACTION: Notice of an information collection, Earth Explorer User Registration Service.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before July 6, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-NEW, Earth Explorer User Registration Service' in all correspondence.

FOR FURTHER INFORMATION CONTACT: Ryan Longhenry, Long Term Archive Project Manager, at (605) 695-1611 or rlonghenry@usgs.gov.

SUPPLEMENTARY INFORMATION:

I. Abstract

The USGS proposes to collect general demographic information about public users that download products from the USGS using Earth Explorer (EE) application to help address Congress, OMB and DOI management's questions as to who uses Landsat and other remote sensing data and what are the most common uses of these data which they have found to be valuable for justifying and maintaining the free distribution of the USGS land remote sensing data. EE also stores information about users that download source code products (GloVis for example). The information collected in the database includes the names, affiliations, addresses, email address and telephone numbers of individuals. The information is gathered to facilitate the reporting of demographic data for use of the EE Application. Demographic data is also used to make decisions on future functional requirements within the system.

Earth Explorer is a Web application that enables users to find, preview, and download or order digital data published by the U.S. Geological Survey. There are more than 300 USGS Datasets available from the site. To download or order products from EE, users must register with the EE system.

The information is stored on an internal encrypted database. The data is provided by the customer and utilized to contact the customer to notify customer of data ready for download. If downloads are unsuccessful, the customer is contacted to provide updated information. In addition, EE requires certain fields to be completed such as name, address, city and zip code before an account can be established and an order can be submitted. Email is sent to new registered users to validate user email information.

EE does not derive new data and does not create new data through aggregation.

Personal information is not used as search criteria. Access to the information uses the least privileged access methodology. Authorized individuals with specifically granted access to the Privacy Act data can retrieve only by account number or order number Personal data is encrypted while stored in the Database. Contact ID is generated when account is created.

II. Data

OMB Control Number: 1028-NEW.

Title: Earth Explorer User Registration Service.

Type of Request: Existing information collection without prior approval.

Affected Public: Federal Agencies, state, tribal, and non-government individuals who have requested USGS products from USGS/Earth Explorer application are covered in this system. The system has only one category for individuals.

Respondent's Obligation: Participant data is furnished by the individual and is required for order fulfillment.

Frequency of Collection: The information is collected at the time of registration and is only updated by the individual. Updates to the information are accomplished by the individual when they feel the need to update. Occasions' that user might want to update would be if something has changed in their demographic (email address as an example).

Estimated Annual Number of Respondents: 84,000.

Estimated Total Number of Annual Responses: Approximately 84,000 new users are added on an annual basis.

Estimated Time per Response: 2 min.

Estimated Annual Burden Hours: 2,800.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Francis P. Kelly,
Director, EROS Center.

[FR Doc. 2015-10317 Filed 5-1-15; 8:45 am]

BILLING CODE 4311-AM-P